DEPARTMENT OF LABOR

Occupational Safety and Health Administration

[Docket No. OSHA-2016-0005]

Preparations for the 35th Session of the UN Sub-Committee of Experts on the Globally Harmonized System of Classification and Labelling of Chemicals (UNSCEGHS)

AGENCY: Occupational Safety and Health Administration (OSHA), Labor.

ACTION: Notice of public meeting.

SUMMARY: This notice is to advise interested persons that on Tuesday, June 12, 2018, OSHA will conduct a public meeting to discuss proposals in preparation for the 35th session of the United Nations Sub-Committee of Experts on the Globally Harmonized System of Classification and Labelling of Chemicals (UNSCEGHS) to be held July 4 through July 6, 2018, in Geneva, Switzerland. OSHA, along with the U.S. Interagency Globally Harmonized System of Classification and Labelling of Chemicals (GHS) Coordinating Group, plans to consider the comments and information gathered at this public meeting when developing the U.S. Government positions for the UNSCEGHS meeting. OSHA also will give an update on the Regulatory Cooperation Council (RCC).

Also, on Tuesday, June 12, 2018, the Department of Transportation (DOT), Pipeline and Hazardous Materials Safety Administration (PHMSA) will conduct a public meeting (See Docket No. PHMSA-2018-0024; Notice No. 2018-07) to discuss proposals in preparation for the 53rd session of the United Nations Sub-Committee of Experts on the Transport of Dangerous Goods (UNSCE TDG) to be held June 25 through July 4, 2018, in Geneva, Switzerland. During this meeting, PHMSA is also requesting comments relative to potential new work items that may be considered for inclusion in its international agenda. PHMSA will also provide an update on recent actions to enhance transparency and stakeholder interaction through improvements to the international standards portion of its website.

DATES: Tuesday, June 12, 2018.

ADDRESSES: Both meetings will be held at the DOT Headquarters Conference Center, West Building, Oklahoma City Conference Room, 1200 New Jersey Avenue SE, Washington, DC 20590.

Times and Locations: PHMSA public meeting: 9:00 a.m. to 12:00 p.m. ET, Oklahoma City Conference Room, OSHA public meeting: 1:00 p.m. to 4:00 p.m. ET, Oklahoma City Conference Room.

Advanced Meeting Registration: DOT requests that attendees pre-register for these meetings by completing the form at: https://www.surveymonkey.com/r/LQQFCHS.

Attendees may use the same form to pre-register for both meetings. Failure to pre-register may delay your access into the DOT Headquarters building. Additionally, if you are attending in person, arrive early to allow time for security checks necessary to access the building.

Conference call-in and “Skype meeting” capability will be provided for both meetings. Specific information on such access will be posted when available at https://www.phmsa.dot.gov/international-program/international-program-overview. under Upcoming Events. This information will also be posted on OSHA's Hazard Communication website on the international tab at: https://www.osha.gov/dsg/hazcom/hazcom_international.html#meeting-notice.

FOR FURTHER INFORMATION CONTACT: At the Department of Transportation, please contact: Mr. Steven Webb or Mr. Aaron Wiener, Office of Hazardous Materials Safety, Department of Transportation, Washington, DC 20590, telephone: (202) 366-8553.

At the Department of Labor, please contact: Ms. Maureen Ruskin, OSHA Directorate of Standards and Guidance, Department of Labor, Washington DC 20210, telephone: (202) 693-1950, email: ruskin.maureen@dol.gov.

SUPPLEMENTARY INFORMATION:

The OSHA Meeting: OSHA is hosting an open informal public meeting of the U.S. Interagency GHS Coordinating Group to provide interested groups and individuals with an update on GHS-related issues and an opportunity to express their views orally and in writing for consideration in developing U.S. Government positions for the upcoming UNSCEGHS meeting.

General topics on the agenda include:

• Review of working papers

• Correspondence group updates

• Regulatory Cooperation Council (RCC) update

Information on the work of the UNSCEGHS including meeting agendas, reports, and documents from previous sessions, can be found on the United Nations Economic Commission for Europe (UNECE) Transport Division website located at the following web address: http://www.unece.org/trans/danger/publi/ghs/ghs_welcome_e.html.

The UNSCEGHS bases its decisions on Working Papers. The Working Papers for the 35th session of the UNSCEGHS are located at: https://www.unece.org/trans/main/dgdb/dgsubc4/c42018.html.

Informal Papers submitted to the UNSCEGHS provide information for the Sub-committee and are used either as a mechanism to provide information to the Sub-committee or as the basis for future Working Papers. Informal Papers for the 35th session of the UNSCEGHS are located at: https://www.unece.org/trans/main/dgdb/dgsubc4/c4inf35.html.

In addition to participating at the public meeting, interested parties may submit comments on the Working and Informal Papers for the 35th session of the UNSCEGHS to the docket established for International/Globally Harmonized System (GHS) efforts at http://www.regulations.gov, Docket No. OSHA-2016-0005.

The PHMSA Meeting: The Federal Register notice and additional detailed information relating to PHMSA's public meeting will be available upon publication at: http://www.regulations.gov (Docket No. PHMSA-2018-0024; Notice No. 2018-07), and on the PHMSA website at: https://www.phmsa.dot.gov/international-program/international-program-overview.

The primary purpose of PHMSA's meeting is to prepare for the 53rd session of the UNSCE TDG. This session represents the third meeting scheduled for the 2017-2018 biennium. UNSCE TDG will consider proposals for the 21st Revised Edition of the United Nations Recommendations on the Transport of Dangerous Goods (Model Regulations), which may be implemented into relevant domestic, regional, and international regulations from January 1, 2021. Copies of working documents, informal documents, and the meeting agenda may be obtained from the United Nations (UN) Transport Division's website at: https://www.unece.org/trans/main/dgdb/dgsubc3/c32018.html.

During this meeting, PHMSA is also soliciting input relative to preparing for the 53rd session of the UNSCE TDG as well as potential new work items which may be considered for inclusion in its international agenda. Following the 53rd session of the UNSCE TDG, a copy of the Sub-Committee's report will be available at the UN Transport Division's website at: http://www.unece.org/trans/main/dgdb/dgsubc3/c3rep.html.

Additional information regarding the UNSCE TDG and related matters can be found on PHMSA's website at https://www.phmsa.dot.gov/international-program/international-program-overview.

Authority and Signature: This document was prepared under the direction of Loren Sweatt, Deputy Assistant Secretary of Labor for Occupational Safety and Health, U.S. Department of Labor, pursuant to sections 4, 6, and 8 of the Occupational Safety and Health Act of 1970 (29 U.S.C. 653, 655, 657), and Secretary's Order 1-2012 (77 FR 3912), (Jan. 25, 2012).

Signed at Washington, DC, on May 11, 2018.
Loren Sweatt,
Deputy Assistant Secretary of Labor for Occupational Safety and Health.

[FR Doc. 2018-10523 Filed 5-16-18; 8:45 am]

BILLING CODE 4510-26-P